DEPARTMENT OF DEFENSE

Defense Acquisition Regulations System

48 CFR Parts 225 and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective Date: June 26, 2013.

FOR FURTHER INFORMATION CONTACT: Mrs. Kortnee Stewart, Defense Acquisition Regulations System, OUSD (AT&L) DPAP (DARS), Room 3B855, 3060 Defense Pentagon, Washington, DC 20301-3060. Telephone 571-372-6100; facsimile 571-372-6094.

SUPPLEMENTARY INFORMATION: This final rule amends the DFARS as follows:

1. Corrects typographical error at 225.7902-5(b)(1)(i).

2. Corrects the definition of “export” at 252.225-7047.

List of Subjects in 48 CFR Parts 225 and 252

Government procurement.

Kortnee Stewart,
Editor, Defense Acquisition Regulations System.

Therefore, 48 CFR parts 225 and 252 are amended as follows:

1. The authority citation for 48 CFR parts 225 and 252 continues to read as follows:

Authority: 41 U.S.C. 1303 and 48 CFR chapter 1.

PART 225—FOREIGN ACQUISITION

225.7902-5 [Amended]

2. Section 225.7902-5(b)(1)(i) is amended by removing “252.204-7008” and adding “252.204-7048” in its place.

PART 252—SOLICITATION PROVISIONS AND CONTRACT CLAUSES

252.225-7047 [Amended]

3. The definition of “Export” in section 252.225-7047(a) is amended by removing “United Kingdom Community” and adding “United Kingdom Community and the Australia Community” in its place.

[FR Doc. 2013-15271 Filed 6-25-13; 8:45 am]

BILLING CODE 6820-ep-P